DEPARTMENT OF ENERGY

Federal Energy Regulatory Commission

Combined Notice of Filings #1

Take Notice that the Commission received the following exempt wholesale generator filings:

Docket Numbers: EG24-289-000.

Applicants: Dan's Mountain Wind Force, LLC.

Description: Dan's Mountain Wind Force, LLC submits Notice of Self-Certification of Exempt Wholesale Generator Status.

Filed Date: 9/17/24.

Accession Number: 20240917-5035.

Comment Date: 5 p.m. ET 10/8/24.

Docket Numbers: EG24-290-000.

Applicants: Silver State South Storage, LLC.

Description: Silver State South Storage, LLC submits Notice of Self-Certification of Exempt Wholesale Generator Status.

Filed Date: 9/17/24.

Accession Number: 20240917-5113.

Comment Date: 5 p.m. ET 10/8/24.

Take notice that the Commission received the following electric rate filings:

Docket Numbers: ER22-2359-003.

Applicants: PJM Interconnection, L.L.C.

Description: Compliance filing: Motion for Leave to Submit Compliance Filing to be effective 7/12/2025.

Filed Date: 9/16/24.

Accession Number: 20240916-5133.

Comment Date: 5 p.m. ET 10/7/24.

Docket Numbers: ER24-2072-001.

Applicants: The Empire District Electric Company, Southwest Power Pool, Inc.

Description: Compliance filing: The Empire District Electric Company submits tariff filing per 35: The Empire District Electric Company's Amended Order No. 864 Compliance Filing to be effective 1/27/2020.

Filed Date: 9/17/24.

Accession Number: 20240917-5111.

Comment Date: 5 p.m. ET 10/8/24.

Docket Numbers: ER24-2253-001.

Applicants: Southwest Power Pool, Inc.

Description: Tariff Amendment: 4268 Blue Valley Grid GIA—Deficiency Response to be effective 5/23/2024.

Filed Date: 9/17/24.

Accession Number: 20240917-5028.

Comment Date: 5 p.m. ET 10/8/24.

Docket Numbers: ER24-2725-000.

Applicants: Lone Star Solar, LLC.

Description: Supplement to 08/08/2024 Lone Star Solar, LLC tariff filing.

Filed Date: 9/13/24.

Accession Number: 20240913-5243.

Comment Date: 5 p.m. ET 9/23/24.

Docket Numbers: ER24-3054-000.

Applicants: Constellation Mystic Power, LLC.

Description: Constellation Mystic Power, LLC submits request for waiver of certain deadlines required by Schedule 3A of the Mystic Cost of Service Agreement.

Filed Date: 9/13/24.

Accession Number: 20240913-5244.

Comment Date: 5 p.m. ET 9/20/24.

Docket Numbers: ER24-3057-000.

Applicants: Kearsarge Riverpark I LLC.

Description: Baseline eTariff Filing: KS_Riverpark_I_MBRA_App to be effective 11/1/2024.

Filed Date: 9/16/24.

Accession Number: 20240916-5121.

Comment Date: 5 p.m. ET 10/7/24.

Docket Numbers: ER24-3058-000.

Applicants: Midcontinent Independent System Operator, Inc.

Description: § 205(d) Rate Filing: 2024-09-17_SA 4271 NIPSCO-Ridgeway Power 1st Rev GIA (J1358) to be effective 9/11/2024.

Filed Date: 9/17/24.

Accession Number: 20240917-5024.

Comment Date: 5 p.m. ET 10/8/24.

Docket Numbers: ER24-3059-000.

Applicants: Dan's Mountain Wind Force, LLC.

Description: Baseline eTariff Filing: Market-Based Rate Application and Requests for Waivers and Blanket Approvals to be effective 11/10/2024.

Filed Date: 9/17/24.

Accession Number: 20240917-5030.

Comment Date: 5 p.m. ET 10/8/24.

Docket Numbers: ER24-3060-000.

Applicants: Duke Energy Florida, LLC.

Description: Tariff Amendment: DEF-SECI Notice of Cancellation of RS No. 213 to be effective 12/31/2024.

Filed Date: 9/17/24.

Accession Number: 20240917-5075.

Comment Date: 5 p.m. ET 10/8/24.

Docket Numbers: ER24-3061-000.

Applicants: VESI 34 LLC.

Description: Baseline eTariff Filing: Petition for Approval of Initial Market-Based Rate Tariff to be effective 9/18/2024.

Filed Date: 9/17/24.

Accession Number: 20240917-5135.

Comment Date: 5 p.m. ET 10/8/24.

Take notice that the Commission received the following electric reliability filings:

Docket Numbers: RR24-7-000.

Applicants: North American Electric Reliability Corporation.

Description: Petition for approval of the Amended and Restated Bylaws of the North American Electric Reliability Corporation.

Filed Date: 9/17/24.

Accession Number: 20240917-5069.

Comment Date: 5 p.m. ET 10/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 17, 2024.
Debbie-Anne A. Reese,
Acting Secretary.

[FR Doc. 2024-21728 Filed 9-23-24; 8:45 am]

BILLING CODE 6717-01-P